ENVIRONMENTAL PROTECTION AGENCY

[OPP-2005-0067; FRL-7708-2]

Sulfuryl Fluoride; Notice of Filing a Pesticide Petition to Establish Tolerances for a Certain Pesticide Chemical in or on Food; Extension of Comment Period

AGENCY: Environmental Protection Agency (EPA).

ACTION: Notice; extension of comment period.

SUMMARY: EPA issued a notice in the Federal Register of March 4, 2005, concerning the initial filing of a pesticide petition proposing the establishment of regulations for residues of sulfuryl fluoride in or on various food commodities with a 30-day public comment period. That comment period will end on April 4, 2005. This document is extending the comment period for an additional 15 days.

DATES: Comments, identified by docket identification (ID) number OPP-2005-0067 must be received on or before April 19, 2005.

ADDRESSES: Comments may be submitted electronically, by mail, or through hand delivery/courier. Follow the detailed instructions as provided in Unit I.C. of the SUPPLEMENTARY INFORMATION of the March 4, 2005 Federal Register document.

FOR FURTHER INFORMATION CONTACT: Suku Oonnithan, Registration Division (7505C), Office of Pesticide Programs, Environmental Protection Agency, 1200 Pennsylvania Ave., NW., Washington, DC 20460-0001; telephone number: (703) 605-0368; e-mail address:oonnithan.suku@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. How Can I Get Copies of this Document and Other Related Information?

1. Docket. EPA has established an official public docket for this action under docket ID number OPP-2005-0067. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

C. How and to Whom Do I Submit Comments?

To submit comments, or access the official public docket, please follow the detailed instructions as provided in Unit I.C. of the SUPPLEMENTARY INFORMATION of the March 4, 2005 Federal Register document. If you have questions, consult the person listed under FOR FURTHER INFORMATION CONTACT.

II. What Action is EPA Taking?

This document extends the public comment period established in the Federal Register of March 4, 2005 (70 FR 10621) (FRL-7701-8) for the sulfuryl fluoride notice of filing. The original comment period will expire on April 4, 2005. EPA is hereby extending the comment period an additional 15 days so that the new comment period ends on April 19, 2005.

List of Subjects

Environmental protection, Pesticides and pests.

Dated: March 28, 2005.
Lois Rossi,
Director, Registration Division, Office of Pesticide Programs.

[FR Doc. 05-6500 Filed 3-31-05; 8:45 am]

BILLING CODE 6560-50-S